FEDERAL COMMUNICATIONS COMMISSION

47 CFR Part 73

[DA 16-648; MB Docket No. 14-236; RM-11739 and MB Docket No. 14-257; RM-11743]

Radio Broadcasting Services; Bogata, Texas and Wright City, Oklahoma

AGENCY: Federal Communications Commission.

ACTION: Final rule.

SUMMARY: At the request of Charles Crawford, the Audio Division amends the FM Table of Allotments, by allotting Channel 247A at Bogata, Texas and Channel 295A at Wright City, Oklahoma. A staff engineering analysis indicates that FM Channel 247A can be allotted at Bogata, Texas at the following reference coordinates: 33-33-21 NL and 95-18-28 WL. FM Channel 295A can be allotted at Wright City, Oklahoma, at the following reference coordinates: 34-04-44 NL and 94-51-15 WL.

DATES: Effective July 25, 2016.

FOR FURTHER INFORMATION CONTACT: Nazifa Sawez, Media Bureau, (202) 418-2700.

SUPPLEMENTARY INFORMATION: This is a synopsis of the Commission's Report and Order, MB Docket Nos. 14-236 and 14-257, adopted July 9, 2016, and released July 10, 2016. The full text of this Commission decision is available for inspection and copying during normal business hours in the FCC's Reference Information Center at Portals II, CY-A257, 445 12th Street SW., Washington, DC 20554. The full text is also available online at http://apps.fcc.gov/ecfs/. This document does not contain information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336, and 339.

§ 73.202 [Amended]

2. Section 73.202(b), the Table of FM Allotments, is amended by:

a. Under Oklahoma, adding, in alphabetical order, Wright City, Channel 295A.

b. Under Texas, adding, in alphabetical order, Bogata, Channel 247A.

[FR Doc. 2016-14934 Filed 6-24-16; 8:45 am]

BILLING CODE 6712-01-P